DEPARTMENT OF DEFENSE

Office of the Secretary

[Transmittal No. 19-0A]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0A with attached Policy Justification.

Dated: June 7, 2019.
Aaron T. Siegel,
Alternate OSD Federal Register Liaison Officer, Department of Defense.

BILLING CODE 5001-06-P

BILLING CODE 5001-06-C

Transmittal No. 19-0A

REPORT OF ENHANCEMENT OR UPGRADE OF SENSITIVITY OF TECHNOLOGY OR CAPABILITY (SEC. 36(B)(5)(C), AECA)

(i) Purchaser: Government of Kuwait

(ii) Sec. 36(b)(1), AECA Transmittal No.: 16-16

Date: May 24, 2016

Military Department: Navy

(iii) Description: On May 24, 2016, Congress was notified by Congressional certification transmittal number 16-16 of the possible sale under Section 36(b)(1) of the Arms Export Control Act of continuation of contractor engineering technical services, contractor maintenance services, Hush House (an enclosed, noise-suppressed aircraft jet engine testing facility) support services, and Liaison Office Support for the Government of Kuwait F/A-18 C/D program. This will include F/A-18 avionics software upgrades, engine component improvements, ground support equipment, engine and aircraft spares and repair parts, publications and technical documentation, Engineering Change Proposals (ECP), U.S. Government and contractor programmatic, financial, and logistics support. Also included are: Maintenance and engineering support, F404 engine and engine test cell support, and Liaison Office support for five (5) Kuwait Liaison Offices. The estimated total cost was $420 million. There is no Major Defense Equipment (MDE) associated with this possible sale.

This transmittal reports the extension of the Period of Performance of all of the above items from 2021 to 2023 and increases the total estimated cost by $380 million to $800 million. There is no MDE associated.

(iv) Significance: The proposed sale of support services will enable the Kuwait Air Force to ensure the reliability and performance of its F/A-18 C/D aircraft.

(v) Justification: This proposed sale will contribute to the foreign policy and national security of the United States by helping to improve the security of a friendly country that is an important force for political stability and economic progress in the Middle East. Kuwait plays a large role in U.S. efforts to advance stability in the Middle East, providing basing, access, and transit for U.S. forces in the region.

(vi) Sensitivity of Technology: The statement contained in the original AECA 36(b)(1) transmittal applies to the MDE items reported here.

(vii) Date Report Delivered to Congress: April 15, 2019.

[FR Doc. 2019-12370 Filed 6-11-19; 8:45 am]

BILLING CODE 5001-06-P